DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250 (b)(1) of subchapter D, chapter 2, Title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under Subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than February 19, 2001.

Also, interested persons are invited to submit written comments regarding the subject matter of the petitions to the Director of DTAA at the address shown below not later than February 19, 2001.

Petitions filed with the Governors are available for inspection at the Office of the Director, DTAA, ETA, DOL, Room C-5311, 200 Constitution Avenue, NW., Washington, DC 20210.

Signed at Washington, DC this 31st day of January, 2001.
Edward A. Tomchick,
Director, Division of Trade Adjustment Assistance.

Appendix
Subject firm | Location | Date received at Governor's office | Petition No. | Articles produced
Ralph Daniel Sterns (Co.) | Siskiyou, CA | 12/18/2000 | NAFTA-4,397 | Sugar.
Imperial Holly Spreckels Sugar (Wkrs) | Tracy, CA | 12/14/2000 | NAFTA-4,398 | Sugar.
Tyco Electronics (Wkrs) | Irvine, CA | 12/18/2000 | NAFTA-4,399 | Connectors, cable assembly.
Respiratory Support Products (Wkrs) | Irvine, CA | 11/02/2000 | NAFTA-4,400 | Disposable medical products.
Labatt USA (Wkrs) | Latrobe, PA | 12/21/2000 | NAFTA-4,401 | Beer.
United Plastic Group Portland (Co.) | Hillsboro, OR | 12/22/2000 | NAFTA-4,402 | Telephone handsets.
Gynecare (Co.) | Menlo Park, CA | 12/28/2000 | NAFTA-4,403 | Balloon therapy.
Hedstrom Lumber (Wkrs) | Two Harbors, MN | 12/28/2000 | NAFTA-4,404 | Lumber.
VF Imagewear (Wkrs) | Martinsville, VA | 12/20/2000 | NAFTA-4,405 | Knit fleece and jersey products.
Sappi Fine Paper (PACE) | Muskegon, MI | 12/27/2000 | NAFTA-4,406 | Paper.
Morris Material Handling (Wkrs) | Milwaukee, WI | 12/26/2000 | NAFTA-4,407 | Overhead cranes and hoists.
Clark Metal Products (UAW) | Marion, OH | 12/26/2000 | NAFTA-4,408 | Door latches.
Burnt River Forest Products (Wkrs) | Unity, OR | 12/26/2000 | NAFTA-4,409 | Fence post.
Kwikset (Co.) | Anaheim, CA | 12/26/2000 | NAFTA-4,410 | Residential door hardware.
O-Z Gedney (Co.) | Pittston, PA | 12/27/2000 | NAFTA-4,411 | Electrical fittings.
VF Imagewear (Co.) | North Wilkesboro, NC | 12/29/2000 | NAFTA-4,412 | Tee-Shirts and Sweatshirts.
Quaker Oats ( ) | Shiremanstown, PA | 12/27/2000 | NAFTA-4,413 | Cereal.
Commerce Plastics Manar, Inc (Wrks) | Commerce, GA | 12/27/2000 | NAFTA-4,414 | Television Components.
Brown Packing Co., Inc (Co.) | Little Rock, AR | 01/02/2001 | NAFTA-4,415 | Slaughter of Hogs.
Fruit of The Loom (Co.) | Osceola, AR | 12/29/2000 | NAFTA-4,416 | Active and casual wear.
VF Imagewear, Inc. (Co.) | Antlers, OK | 12/20/2000 | NAFTA-4,417 | Men's work Clothing.
Owens-Brockway, Inc. ( ) | Fulton, NY | 12/28/2000 | NAFTA-4,418 | Glass Bottles.
TI Automotive Group (Wrks) | New Havenq, MI | 01/03/2001 | NAFTA-4,419 | Automotive Parts.
Jefferson Apparel (Co.) | Jefferson, NC | 01/02/2001 | NAFTA-4,420 | Apparel.
HYD-Mech (Co.) | Pueblo, CO | 01/03/2001 | NAFTA-4,421 | Bandsaw Cutting Machines.
VF Imagewear (Co.) | Tampa, FL | 01/02/2001 | NAFTA-4,422 | Embroidery and Screenprint.
Tensolite Interconnect Systems (C0.) | Essex Jct., VT | 12/29/2000 | NAFTA-4,423 | Cable assemblies.
Robert Bosch (UAW) | Hendersonville, TN | 01/03/2001 | NAFTA-4,424 | Motors—automotive air conditioning.
New York Air Brake | Watertown, NY | 01/04/2001 | NAFTA-4,425 | Locomotive Braking Equipment.
Southern Oregon Log Scaling | Roseburg, OR | 01/03/2001 | NAFTA-4,426 | Log Sealing.
Fletcher Corp | Alpena, MI | 01/05/2001 | NAFTA-4,427 | Uncoated Sheet Printing Papers.
Con-Vey Keystone, Inc | Roseburg, OR | 01/04/2001 | NAFTA-4,428 | Equipment of Lumber Industry.
Benetti, Inc. (Co.) | Rock Hill, SC | 01/04/2001 | NAFTA-4,429 | Knit Fabric.
MelPack (Co.) | Mullins, SC | 01/04/2001 | NAFTA-4,430 | Light bulb packaging.
Owens-BriGram Medical | Newland, NC | 01/04/2001 | NAFTA-4,431 | Anesthesia Products.
Georgia-Pacific Corp | Grand Rapids, MI | 01/08/2001 | NAFTA-4,432 | Gypsum Wall Board.
VF Imagewear (Co.) | Clarksville, TX | 01/08/2001 | NAFTA-4,433 | Men's Work Shirts.
Precise Cutting, Marking & Grading (Co.) | Los Angeles, CA | 01/08/2001 | NAFTA-4,434 | Garmet Cutting.
Bayer Corp | Elkhart, IN | 01/08/2001 | NAFTA-4,435 | Alka-Seltzer and Alka-Seltzer Plus.
Babcock Borsig Power (IBM) | Erie, PA | 01/05/2001 | NAFTA-4,436 | Water wall panels.
Bianca Sportswear (Wkrs) | N. Lindenhurst, NY | 01/09/2001 | NAFTA-4,437 | Ladies' pants.
Price Pfister (Wkrs) | Pacoina, CA | 12/27/2000 | NAFTA-4,438 | Faucets.
Outboard Marine—OMC (Wkrs) | Andrews, NC | 01/10/2001 | NAFTA-4,439 | Gear Cases for motors.
OMC—P and A (Wkrs) | Beloit, WI | 01/11/2001 | NAFTA-4,440 | Sporting and recreational goods.
Georgia Pacific (PACE) | Baileyville, ME | 01/03/2001 | NAFTA-4,441 | Softwood lumber.
Oshkosh B'Gosh (Co.) | Byrdstown, TN | 01/09/2001 | NAFTA-4,442 | Children's apparel.
Berne Apparel (Wkrs) | Hardinsburg, KY | 01/09/2001 | NAFTA-4,443 | Work clothing.
Outboard Marine—OMC (Wkrs) | Waukegan, IL | 01/11/2001 | NAFTA-4,444 | Outboard motors.
Burlington (Wkrs) | Monticello, AR | 01/10/2001 | NAFTA-4,445 | Rugs.
Borg Warner Automative (Wkrs) | Blytherville, AR | 01/11/2001 | NAFTA-4,446 | Automotive parts.
Commonwealth Aluminum (USWA) | Lewisport, KY | 01/17/2001 | NAFTA-4,447 | Aluminum coils.
NACCO Materials Handling Group (Wkrs) | Danville, IL | 01/17/2001 | NAFTA-4,448 | Forklifts.
Fox Distribution (Wkrs) | Laurel, MI | 01/17/2001 | NAFTA-4,449 | Finger joint.
Magnetic Data Technologies (Wkrs) | Eden Praine, MN | 01/18/2001 | NAFTA-4,450 | Tape drives.
Titanium Sports Technologies (Co.) | Kennewick, WA | 01/18/2001 | NAFTA-4,451 | Bicycle frames.
Millennium Plastic Technologies (Co.) | El Paso, TX | 01/18/2001 | NAFTA-4,452 | Plastic automotive parts.
Sacramento Bag (Co.) | Sacramento, CA | 01/17/2001 | NAFTA-4,453 | Burlap onion bags.
Innovative Home Products (UAW) | Birmingham, MI | 01/18/2001 | NAFTA-4,454 | Iron and steel.
Sunlite Casual Furniture (Co.) | Paragould, AR | 01/18/2001 | NAFTA-4,455 | Furniture.
Exide Technologies (IBEW) | Leavenworth, KY | 01/17/2001 | NAFTA-4,456 | Batteries.
Ametek—Prestolite (Co.) | Decautur, AL | 01/19/2001 | NAFTA-4,457 | dc motors.
Leach International (Co.) | Buena Park, CA | 01/18/2001 | NAFTA-4,458 | Electro mechanical relay.
Pirelli (USWA) | Hanford, CA | 01/18/2001 | NAFTA-4,459 | Tires.
National Starch & Chemical (IBM) | Meredosia, IL | 01/18/2001 | NAFTA-4,460 | Solvent adhesives.
Arka Knitwear (Co.) | Ridgewood, NY | 01/19/2001 | NAFTA-4,461 | Knitted sweaters.
Dresser Wayne—Halliburton (UAW) | Salisbury, MD | 01/16/2001 | NAFTA-4,462 | Building gasoline dispensers.
American Standard (GMPPA) | Piscataway, NJ | 01/16/2001 | NAFTA-4,463 | Sanitary wares.
OEM/ERIE Westland (UAW) | Westland, MI | 01/19/2001 | NAFTA-4,464 | Automotive parts.
Vision Legwear (Co.) | Spruce Pine, NC | 01/19/2001 | NAFTA-4,465 | Ladies sheer hosiery.
Clevenger Sox (Co.) | Black Mountain, NC | 01/19/2001 | NAFTA-4,466 | Socks.
Benel Manufacturing (Co.) | Dunn, NC | 01/19/2001 | NAFTA-4,467 | Clothing.
OBG Manufacturing—Oshkosh (UFCW) | Liberty, KY | 01/17/2001 | NAFTA-4,468 | Children's clothing.
Nova Bus (Wkrs) | Roswell, NM | 01/18/2001 | NAFTA-4,469 | Bus parts.
Delbar Products (IAMAW) | Perkasie, PA | 01/19/2001 | NAFTA-4,470 | Car mirrors.
Texprint (Co.) | Macon, GA | 01/22/2001 | NAFTA-4,471 | Textile fabric.
Portola Packaging (Wkrs) | New Castle, PA | 01/19/2001 | NAFTA-4,472 | Plastic closures.
Ingersoll Milling Machine (Wkrs) | Rockford, IL | 01/19/2001 | NAFTA-4,473 | Engine transfer lines.
Schumacher Electric (Co.) | Rensselaer, IN | 01/19/2001 | NAFTA-4,474 | Transformer coils, solenoid coils.
VF Imagewear (Co.) | Russellville, KY | 01/23/2001 | NAFTA-4,475 | Industrial work pants.
Horix Manufacturing (USWA) | McKees Rocks, PA | 01/22/2001 | NAFTA-4,476 | Rotary filling machines.
North Douglas Wood Products (Wkrs) | Drain, OR | 01/23/2001 | NAFTA-4,477 | Solid hardwood panels.
Brenner Tank (Co.) | Hauston, WI | 01/24/2001 | NAFTA-4,478 | Stainless and carbon steel tank.
Budge Industries (Wkrs) | Telford, PA | 01/25/2001 | NAFTA-4,479 | Car covers.
Applied Molded Products (UBC) | Watertown, WI | 01/23/2001 | NAFTA-4,480 | Fiberglass.
Spectrum Dyed Yarns (Co.) | Belmont, NC | 01/25/2001 | NAFTA-4,481 | Dyed yarns.
Master Pattern (Wkrs) | Norton Shores, MI | 01/24/2001 | NAFTA-4,482 | Molding equipment.
Vilter Manufacturing (Wkrs) | Cudahn, WI | 01/24/2001 | NAFTA-4,483 | Pressure vessels.
Hayes Lemmerz (Wkrs) | Homer, MI | 01/24/2001 | NAFTA-4,484 | Automotive drums & rotors.
SPX Corporation (Wkrs) | Jackson, MI | 01/24/2001 | NAFTA-4,485 | Automotive speciality & service tools.
Owens and Hurst Lumber (Co.) | Eureka, MT | 01/23/2001 | NAFTA-4,486 | Pine boards.
Southdown (Wkrs) | Wampum, PA | 01/22/2001 | NAFTA-4,487 | Cement products.
Crown Hosiery (Co.) | Hickory, NC | 01/29/2001 | NAFTA-4,488 | Hoisery.
3 day Blinds (Wkrs) | Anaheim, CA | 01/29/2001 | NAFTA-4,489 | Mini blinds.
Burns Philp Food—Fleischmann's Yeast (Co.) | Gastonia, NC | 01/30/2001 | NAFTA-4,490 | Yeast.

[FR Doc. 01-3302 Filed 2-7-01; 8:45 am]

BILLING CODE 4510-30-M